DEPARTMENT OF DEFENSE

Department of the Army; Corps of Engineers

Intent To Prepare an Integrated Draft Project Implementation Report/Environmental Impact Statement for the Southern Golden Gate Estates Hydrologic Restoration

AGENCY: Department of the Army, U.S. Army Corps of Engineers, DoD.

ACTION: Notice of intent.

SUMMARY: The U.S. Army Corps of Engineers (Corps) Jacksonville District intends to prepare an integrated Draft Project Implementation Report/Environmental Impact Statement (DPIR/EIS) for the Southern Golden Gate Estates Hydrologic Restoration (SGGEHR). This DPIR/EIS is a cooperative effort between the Corps and the South Florida Water Management District (SFWMD). The SGGEHR planning process is authorized under Section 601 of the Water Resources Development Act (WRDA) of 2000 as part of the Central and Southern Florida (C&SF) Comprehensive Everglades Restoration Plan (CERP). The objective of this project is to restore the hydrology of Southern Golden Gate Estates (SGGE) to that which existed prior to the 1960's real estate subdivision. Development of SGGE created approximately 20,000 separate parcels of land, 70 miles of drainage canals, and 290 miles of roads. Elimination of the home sites, plugging of the canals, reduction in the number of miles of roadway, and the reestablishment of a more natural hydrology are expected to restore native plant communities and improve habitat for fish and wildlife resources.

FOR FURTHER INFORMATION CONTACT: John Kremer, U.S. Army Corps of Engineers, Planning Division, Environmental Branch, PO Box 4970, Jacksonville, FL, 32232-0019, by e-mail john.g.kremer@usace.army.mil, or by telephone at 904-232-3551.

SUPPLEMENTARY INFORMATION: a. Authorization: The Southern Golden Gate Estates Hydrologic Restoration PMP and PIR planning process is authorized under Section 601 of the Water Resources Development Act (WRDA) of 2000 as part of the Central and Southern Florida (C&SF) Comprehensive Everglades Restoration Plan (CERP).

b. Study Area: Southern Golden Gate Estates encompasses an area of approximately 94 square miles (60,160 acres) in southwestern Collier County, Florida. It is located between Interstate 75 and U.S. Highway 41. SGGE is located southwest of the Florida Panther National Wildlife Refuge, north of the Ten Thousand Islands Aquatic Preserve and the Ten Thousand Islands National Wildlife Refuge, east of the Belle Meade State Conservation and Recreation Lands Project Area, and west of the Fakahatchee Strand State Preserve. In combination with the Belle Meade tract SGGE will be managed as the Picayune Strand State Forest. Northern Golden Gate Estates (NGGE) lies across Interstate 75 to the north of SGGE.

c. Project Scope: Implementation of this project would restore a more natural hydrology in Southern Golden Gate Estates by reintroducing sheet flow, reestablishing historic flow ways, reducing runoff through increased evaporation and groundwater recharge, and by replacing point source discharges from the Faka Union Canal with distributed flow to tidal coastal marshes along U.S. highway 41. The proposed project would plug the canals, reduce the number of miles of roadway, and reestablish a more natural hydrology. Accomplishment of these objectives is expected to restore historic native plant communities and improve habitat for fish and wildlife resources.

d. Preliminary Alternatives: The DPIR/EIS will evaluate alternative structural and non-structural measures to modify the existing water management system of SGGE to accomplish the following objectives: Establish more uniform freshwater flows to estuaries, restore historic hydro patterns, restore wetland and upland communities, reduce habitat for invasive non-native species, increase aquifer recharge, restore ecological connectivity among public lands, restore habitat for listed species, increase fish and wildlife resources, restore the natural fire regime, remediate or remove chemical contaminants, maintain existing level of flood protection, and maintain appropriate access for managing agencies and public users of the state forest.

e. Issues: The integrated DPIR/EIS will address the following issues: restoration of wetlands and upland ecosystems; water flows; future environmental and urban water demand and supply; socio-economic resources; aquifer recharge; water quality; impacts to the estuaries; flood protection; aesthetics and recreation; fish and wildlife resources, state and federal protected species; cultural resources; and other impacts identified through further scoping, public involvement, and interagency coordination.

f. Scoping: The SGGE project has had a long history of public and interagency involvement dating back to the 1978 Congressional authorization for the Corps to prepare a Golden Gate Estates (GGE) Feasibility Study. The Corps published the GGE Feasibility Study in 1986. In February of 1996 the Big Cypress Basin/South Florida Water Management District submitted the “Hydrologic Restoration of Southern Golden Gate Estates—Conceptual Plan” to the Governor of Florida. In January 1997 the Interagency Technical Advisory Committee (ITAC) convened with respresetatives from the Corps, U.S. Fish and Wildlife Service, U.S. Geological Survey, FDEP, Florida Game and Fresh Water Fish Commission and others, to provide input and assistance for the Cooperative Watershed Planning Assistance Study led by USDA-NRCS and SFWMD. NRCS published this study in September 2001. In September 2000, utilizing the expertise of the ITAC, the Corps and SFWMD jointly initiated the development of a Project Management Plan (PMP) for the SGGE restoration project. The PMP was presented to the Big Cypress Basin Board of Directors at a public meeting in February of 2001. During the past 24 years local and state agencies have held numerous meetings to gather input on issues and opportunities involving the restoration of SGGE.

g. DPIR/EIS Preparation: The integrated DPIR/EIS is scheduled for publication in June 2005.

Dated: May 8, 2002.
George M. Strain,
Acting Chief, Planning Division.

[FR Doc. 02-13044 Filed 5-23-02; 8:45 am]

BILLING CODE 3710-AJ-M